NUCLEAR REGULATORY COMMISSION

[Docket Number 030-04781]

Notice of Availability of Environmental Assessment and Finding of No Significant Impact for License Amendment for Pharmacia and Upjohn Company, Kalamzoo, MI

AGENCY: Nuclear Regulatory Commission.

ACTION: Notice of availability.

FOR FURTHER INFORMATION CONTACT: Dr. Peter J. Lee, Decommissioning Branch, Division of Nuclear Materials Safety, U.S. Nuclear Regulatory Commission, Region III, 2443 Warrenville Road, Lisle, Illinois 60532-4352. Telephone: 630-829-9870; fax number: 630-515-1259; e-mail: pjl2@nrc.gov.

SUPPLEMENTARY INFORMATION:

I. Introduction

The U.S. Nuclear Regulatory Commission (NRC) is considering issuing a license amendment of Material License No. 21-00182-03 issued to Pharmacia & Upjohn Company (the licensee), to authorize release of its Henrietta Street and Jasper Street facilities for unrestricted use.

The NRC staff has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed action is to amend the licensee's byproduct material license and release its Henrietta Street and Jasper Street facilities for unrestricted use. On April 24, 1958, the Atomic Energy Commission authorized the licensee to conduct the radiological operations. The primary radioactive materials used at Henrietta Street and Jasper Street facilities were H-3, C-14, P-32, P-33, S-35, and I-125. On January 26, 2005, the licensee submitted a license amendment request to amend its license to release its Henrietta Street and Jasper Street facilities for unrestricted use. The licensee has conducted surveys of the facility and provided information to the NRC to demonstrate that the site meets the license termination criteria in 10 CFR 20.1402, “'Radiological Criteria for Unrestricted Use.”

The staff has examined the licensee's request and the information provided in support of its request, including the surveys performed to demonstrate compliance with the release criteria. Based on its review, the staff has determined that there are no additional remediation activities necessary to complete the proposed action and a Finding of No Significant Impact is appropriate.

III. Finding of No Significant Impact

The staff has prepared an EA in support of the proposed action. The staff has found that the environmental impacts from the proposed action are bounded by the impacts evaluated in the “Generic Environmental Impact Statement in Support of Rulemaking on Radiological Criteria for License Termination of NRC-Licensed Facilities” (NUREG-1496). On the basis of the EA, the NRC concluded that there are no significant environmental impacts from the proposed amendment and determined not to prepare an environmental impact statement.

IV. Further Information

Documents related to this action, including the application for amendment and supporting documentation, are available electronically at the NRC's electronic Reading Room at http://www.nrc.gov/reading-rm/adams.html. From this site, you can access the NRC's Agencywide Document Access and Management System (ADAMS), which provides text and image files of NRC's public documents. The ADAMS accession numbers for the documents related to this notice are: ML050310283 and ML042640549 for the January 26, 2005, amendment request, and ML051090105 for the EA summarized above. If you do not have access to ADAMS or if there are problems in accessing the documents located in ADAMS, contact the NRC's Public Document Room (PDR) Reference staff at 1-800-397-4209, 301-415-4737, or by email to pdr@nrc.gov.

These documents may also be viewed electronically on the public computers located at the NRC's PDR, O 1 F21, One White Flint North, 11555 Rockville Pike, Rockville, MD 20852. The PDR reproduction contractor will copy documents for a fee.

Dated at Lisle, Illinois, this 19th day of April 2005.
For the Nuclear Regulatory Commission.
Jamnes L. Cameron,
Chief, Decommissioning Branch, Division of Nuclear Materials Safety Region III.

[FR Doc. 05-8944 Filed 5-4-05; 8:45 am]

BILLING CODE 7590-01-P